DEPARTMENT OF AGRICULTURE

Animal and Plant Health Inspection Service

[Docket No. 01-096-1]

Availability of an Environmental Assessment

AGENCY: Animal and Plant Health Inspection Service, USDA.

ACTION: Notice of availability and request for comments.

SUMMARY: We are advising the public that an environmental assessment has been prepared by the Animal and Plant Health Inspection Service relative to the control of Melaleuca quinquenervia. The environmental assessment considers the effects of, and alternatives to, the release of two nonindigenous organisms into the environment for use as biological control agents to reduce the severity of melaleuca infestations. The environmental assessment has been prepared to provide the public with documentation of our review and analysis of the potential environmental impacts and plant pest risks associated with releasing these biological control agents into the environment.

DATES: We invite you to comment on the environmental assessment. We will consider all comments we receive that are postmarked, delivered, or e-mailed by January 14, 2002.

ADDRESSES: You may submit comments by postal mail/commercial delivery or by e-mail. If you use postal mail/commercial delivery, please send four copies of your comment (an original and three copies) to: Docket No. 01-096-1, Regulatory Analysis and Development, PPD, APHIS, Station 3C71, 4700 River Road Unit 118, Riverdale, MD 20737-1238. Please state that your comment refers to Docket No. 01-096-1. If you use e-mail, address your comment to regulations@aphis.usda.gov. Your comment must be contained in the body of your message; do not send attached files. Please include your name and address in your message and “Docket No. 01-096-1” on the subject line.

You may read the environmental assessment and any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Tracy Horner, Entomologist, Permits and Risk Assessment, PPQ, APHIS, 4700 River Road Unit 133, Riverdale, MD 20737-1228; (301) 734-5213.

SUPPLEMENTARY INFORMATION: As part of an integrated control project to reduce the severity of Melaleuca quinquenervia(Cav.) S.T. Blake (Myrtales: Myrtaceae) infestations in Florida, the Animal and Plant Health Inspection Service (APHIS) is proposing to release two nonindigenous organisms, Boreioglycaspis melaleucae Moore (Hemiptera: Psyllidae) and Lophyrotoma zonalis Rohwer (Hymenoptera: Pergidae) in areas affected by melaleuca.

Melaleuca, a broad-leaf paper bark tree native to Australia, was originally introduced in Florida during the early 1900's as an ornamental and was later planted along dikes and levees for erosion control and to convert wetlands into productive forest lands. Over the last four decades, it has spread throughout southern Florida, displacing native plant and animal species, and threatening the stability of the Florida Everglades ecosystem. The purpose of the proposed action is to reduce the severity of the infestations of melaleuca throughout the affected areas.

APHIS' current melaleuca control project encompasses the areas known to be infested in central and south Florida and involves an integrated control approach sensitive to site-specific conditions, which may include a combination of physical, biological, and/or chemical controls. In response to permit applications the Agency received for the release of B. melaleucae, a psyllid native to Australia, and L. zonalis, a sawfly also native to Australia, APHIS is investigating the use of these biological control agents to control melaleuca in the affected areas. If APHIS decides to issue permits to release B. melaleucae and/or L. zonalis, these organisms would be added to the integrated control methods already available. Presently, there is only one biological control agent, a nonindigenous weevil (Oxyops vitiosa), used to suppress melaleuca.

APHIS has completed an environmental assessment that considers the effects of, and alternatives to, releasing B. melaleucae and L. zonalis into the environment. B. melaleucae and L. zonalis are known to attack only species within the family Myrtaceae. Our findings indicate that L. zonalis and B. melaleucae will not develop on any native species of Myrtaceae, but may temporarily feed on, and cause minor damage to, introduced species of Callistemon and Myrtaceae, and possibly wax myrtle. There is no evidence that the release of these two biological control agents will adversely affect threatened and endangered species or their habitat, or cultural, historical, and archaeological resources.

L. zonalis is being tested for toxicity to vertebrates because a closely related species, Lophyrotoma interrupta Klug, is reported to be toxic to cattle in Australia under certain conditions. Until further testing is completed, L. zonalis will not be released into the environment. Therefore, we are considering the release of B. melaleucae and, pending further testing, the release of L. zonalis to reduce the severity of melaleuca infestations in Florida.

APHIS' review and analysis of the potential environmental impacts associated with releasing these biological control agents into the environment are documented in detail in an environmental assessment entitled “Field Release of Two Biological Control Agents Boreioglycaspis melaleucae Moore (Hemiptera: Psyllidae) and Lophyrotoma zonalis Rohwer (Hymenoptera: Pergidae) for the Control of Melaleuca quinquenervia (Cav.) S.T. Blake (Myrtales: Myrtaceae) in South Florida” (September 2001). We are making this environmental assessment available to the public for review and comment.

The environmental assessment may be viewed on the Internet at http://www.aphis.usda.gov/ppq/ by accessing “Forms,” then “Permits-Pests;” the environmental assessment is document number 0030. Copies of the environmental assessment may be obtained by calling the Plant Protection and Quarantine Automated Fax System at (301) 734-4327 or (301) 734-3560; please enter document number 0030 when prompted. You may also request copies of the environmental assessment by calling or writing to the person listed under FOR FURTHER INFORMATION CONTACT. Please refer to the title of the environmental assessment when requesting copies. The environmental assessment is also available for review in our reading room (information on the location and hours of the reading room is listed under the heading ADDRESSES at the beginning of this notice.)

The environmental assessment has been prepared in accordance with: (1) The National Environmental Policy Act of 1969 (NEPA), as amended (42 U.S.C. 4321 et seq.), regulations of the Council on Environmental Quality for implementing the procedural provisions of NEPA (40 CFR parts 1500-1508), (3) USDA regulations implementing NEPA (7 CFR part 1), and (4) APHIS' NEPA Implementing Procedures (7 CFR part 372).

Done in Washington, DC, this 10th day of December 2001 .
W. Ron DeHaven,
Acting Administrator, Animal and Plant Health Inspection Service.

[FR Doc. 01-30896 Filed 12-13-01; 8:45 am]

BILLING CODE 3410-34-P